DEPARTMENT OF LABOR

Employment and Training Administration

[TA-W-55,599]

Olympia Limited, Inc., Hoboken, NJ; Notice of Termination of Investigation

Pursuant to section 221 of the Trade Act of 1974, as amended, an investigation was initiated on September 13, 2004, in response to a worker petition filed by a company official on behalf of workers at Olympia Limited, Inc., Hoboken, New Jersey.

The petitioner has requested that the petition be withdrawn. Consequently, further investigation would serve no purpose and the investigation has been terminated.

Signed in Washington, DC, this 6th day of October, 2004.
Elliott S. Kushner,
Certifying Officer, Division of Trade Adjustment Assistance.

[FR Doc. E4-2847 Filed 10-25-04; 8:45 am]

BILLING CODE 4510-30-P